NATIONAL SCIENCE FOUNDATION

Sunshine Act Meetings

The National Science Board's (NSB) NSB-NSF Commission on Merit Review hereby gives notice of the scheduling of a videoconference meeting for the transaction of National Science Board business pursuant to the National Science Foundation Act and the Government in the Sunshine Act.

TIME AND DATE: Monday, May 8, 2023, from 9:00 a.m.-12:00 p.m. EDT.

PLACE: This meeting will be at the National Science Foundation, 2415 Eisenhower Avenue, Alexandria, VA 22314, and by videoconference.

STATUS: Open.

MATTERS TO BE CONSIDERED: The agenda of the meeting is: Chair's opening remarks; commission planning; discussion of current merit review policy.

CONTACT PERSON FOR MORE INFORMATION: Point of contact for this meeting is: (Chris Blair, cblair@nsf.gov), 703/292-7000. Members of the public can observe this meeting through a YouTube livestream. The YouTube link is https://www.youtube.com/watch?v=g1oHzq6gs-0.

Christopher Blair,
Executive Assistant to the National Science Board Office.

[FR Doc. 2023-09558 Filed 5-2-23; 11:15 am]

BILLING CODE 7555-01-P